DEPARTMENT OF TRANSPORTATION

Federal Aviation Administration

Aviation Rulemaking Advisory Committee Meeting on Air Carrier and General Aviation Maintenance Issues

AGENCY: Federal Aviation Administration.

ACTION: Notice of public meeting.

SUMMARY: The Federal Aviation Administration (FAA) is issuing this notice to advise the public of a meeting of the FAA Aviation Rulemaking Advisory Committee to discuss Air Carrier and General Aviation Maintenance Issues. Specifically the committee will discuss two new tasks concerning quality assurance and ratings for aeronautical repair stations.

DATES: The meeting will be held on December 5, 2001, from 9:00 a.m. to 5:00 p.m. Arrange for teleconference capability and presentations by November 28, 2001.

ADDRESSES: The meeting will be held at the Federal Aviation Administration. 800 Independence Avenue, SW., Room 1010, MacCracken Room, Washington, DC 20591.

FOR FURTHER INFORMATION CONTACT: Vanessa R. Wilkins, Federal Aviation Administration, Office of Rulemaking (ARM-207), 800 Independence Avenue, SW., Washington, DC 20591, telephone (202) 267-8029; fax (202) 267-5075.

SUPPLEMENTARY INFORMATION: Pursuant to § 10(a)(2) of the Federal Advisory Committee Act (Pub. L. 92-463; 5 U.S.C. App II), notice is hereby given of a meeting of the Aviation Rulemaking Advisory Committee to be held on December 5, 2001, from 9:00 a.m. to 5:00 p.m. at the Federal Aviation Administration, 800 Independence Avenue, SW., Room 1010, Washington, DC 20591.

Meeting Agenda

9:00 a.m. Opening remarks and committee administration

9:30 a.m. Overview of comments on repair station ratings submitted to FAA in response to public meetings held in 1989

9:50 a.m. Break

10:00 a.m. Overview of comments on repair station ratings submitted to FAA in response to FAA's 1999 proposal to revise repair stations regulations

10:50 a.m. Break

11:00 a.m. Discussion of ratings systems

12:00 p.m. Lunch

1:00 p.m. Continued discussion of ratings systems

1:50 p.m. Break

2:00 p.m. Overview of comments on quality assurance submitted to FAA in response to FAA's 1999 proposal to revise repair station regulations

2:50 p.m. Break

3:00 p.m. Discussion of quality assurance contractual and regulatory requirements

3:50 p.m. Break

4:00 p.m. Discussion of various repair station operations and the need for quality assurance systems

4:30 p.m. Discussion of future meeting dates, locations, activities, and plans

5:00 p.m. Adjourn

Attendance is open to the interested public, but will be limited to the space available. The FAA will arrange teleconference capability for individuals wishing to participate by teleconference if we receive notification before November 28, 2001. Arrangements to participate by teleconference can be made by contacting the person listed in the FOR FURTHER INFORMATION CONTACT section. Callers outside the Washington metropolitan area will be responsible for paying long distance charges.

The public must make arrangements by November 28, 2001, to present oral statements at the meeting. The public may present written statements to the committee at any time by providing 25 copies to the Executive Director, or by bringing the copies to the meeting. In addition, sign and oral interpretation can be made available at the meeting, as well as an assistive listening device, if requested by November 28, 2001. Arrangements may be made by contacting the person listed under the heading FOR FURTHER INFORMATION CONTACT.

Security Information

Visitors must provide a valid identification (e.g., driver's license or passport), be logged-in as a Visitor, and be issued a paper ID indicating Visitor status before being allowed entry into the building. Please prominently display your government-issued identification at all times while visiting FAA Headquarters. Visitors are permitted to enter FAA Headquarters only if escorted by a FAA employee. Visitors must be escorted throughout the building for the duration of their visit, including as they exit at the conclusion of their business on site.

Acts of violence both here and overseas make these security measures both prudent and necessary. Your cooperation and support will facilitate our ability to maintain a safe and secure working environment for everyone.

Issued in Washington, DC, on November 4, 2001.
James J. Ballough,
Assistant Executive Director, Aviation Rulemaking Advisory Committee.

[FR Doc. 01-28930 Filed 11-19-01; 8:45 am]

BILLING CODE 4910-13-M